DEPARTMENT OF JUSTICE

Notice of Public Comment Period for Proposed Clean Water Act Consent Decree

Notice is hereby given that, for a period of 30 days, the United States will receive public comments on a proposed Consent Decree in United States v. Valero Refining-Texas, L.P. (“Valero Consent Decree”) (Civil Action No. 2:08-cv-00190), which was lodged with the United States District Court for the Southern District of Texas on June 10, 2008.

This proposed Consent Decree was lodged simultaneously with the Complaint in this Clean Water Act case against Valero Refining-Texas, L.P. (“Valero”). The Complaint alleges that Valero is civilly liable for violation of the Clean Water Act (“CWA”), 33 U.S.C. 1251 et seq., as amended by the Oil Pollution Act of 1990 (“OPA”), 33 U.S.C. 2701 et seq. The Complaint seeks civil penalties for the discharge of oil into navigable waters of the United States or adjoining shorelines from the Valero Refinery West Plant in Corpus Christi, Texas. In particular, the Complaint alleges that at least 3,400 barrels of oil were discharged from a Valero containment berm located on the edge of the Ship Channel on June 1, 2006. Valero already has removed the containment berm and associated aboveground storage tank from the edge of the Ship Channel.

Under the settlement, Valero will pay a civil penalty of $1,650,000. In addition, the settlement requires Valero to implement a Supplemental Environmental Project (“SEP”) estimated at $300,000. The SEP involves the design and construction of an emergency response boat ramp near Public Oil Dock 11 at Avery Point on the Corpus Christi Ship Channel. The new boat ramp is intended to provide an access point for larger emergency response boats to the Ship Channel, which will enhance emergency response efforts to protect human health and the environment on and along the water body that was affected by the spill.

Comments should be addressed to the Assistant Attorney General, Environment and Natural Resources Division, and may be submitted to: P.O. Box 7611, U.S. Department of Justice, Washington, DC 20044-7611, or via e-mail to pubcomment-ees.enrd@usdoj.gov, and should refer to United States v. Valero Refining-Texas, L.P., D.J. Ref. 90-5-1-1-09245.

The Consent Decree may be examined at the Office of the United States Attorney, Southern District of Texas, One Shoreline Plaza, South Tower, 800 N. Shoreline Blvd., Suite 500, Corpus Christi, Texas. During the public comment period the Valero Consent Decree may also be examined on the following Department of Justice Web site: http://www.usdoj.gov/enrd/Consent_Decrees.html. A copy of the Valero Consent Decree also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.00 (25 cents per page reproduction cost) payable to the U.S. Treasury.

Maureen M. Katz,
Assistant Section Chief, Environmental Enforcement Section Environment and Natural Resources Division.

[FR Doc. E8-13467 Filed 6-13-08; 8:45 am]

BILLING CODE 4410-15-P